DEPARTMENT OF COMMERCE

International Trade Administration

A-570-803

Heavy Forged Hand Tools, With Or Without Handles from the People's Republic of China: Rescission of Antidumping Duty Administrative Review

AGENCY: Import Administration, International Trade Administration, Department of Commerce.

EFFECTIVE DATE: (June 2, 2008.

FOR FURTHER INFORMATION CONTACT: Jay Anderson, AD/CVD Operations, China/NME Unit, Import Administration, Room 4017, International Trade Administration, U.S. Department of Commerce, 14th Street and Constitution Avenue, N.W., Washington, DC 20230; telephone: (202) 482-4349.

SUPPLEMENTARY INFORMATION:

BACKGROUND:

On February 4, 2008, the Department of Commerce (“the Department”) published a notice of opportunity to request an administrative review of the antidumping duty order on Heavy Forged Hand Tools, With Or Without Handles from the People's Republic of China (“PRC”) for the period of review (“POR”) February 1, 2007, through January 31, 2008.¹ On February 29, 2008, Truper Herramientas S.A. de C.V. (“Truper”) requested that the Department conduct an administrative review of the anti-dumping order on axes/adzes, bars/wedges, hammers/sledges, and picks/mattocks to the United States during the POR. No other parties requested a review. On March 31, 2008, the Department published the notice of initiation² covering Truper. On May 9, 2008, Truper withdrew its request for review.

¹ See Antidumping or Countervailing Duty Order, Finding, or Suspended Investigation: Opportunity to Request Administrative Review, 73 FR 6477 (February 4, 2008)

¹ See Initiation of Antidumping and Countervailing Duty Administrative Reviews, Request for Revocation in Part, and Deferral of Administrative Review, 73 FR 16837 (March 31, 2008).

RESCISSION OF REVIEW:

Section 351.213(d)(1) of the Department's regulations provide that the Department will rescind an administrative review if the party that requested the review withdraws its request for review within 90 days of the date of publication of the notice of initiation of the requested review, or withdraws its request at a later date if the Department determines that it is reasonable to extend the time limit for withdrawing the request. Truper properly withdrew its request before the 90-day deadline. Therefore, we are rescinding this review of the antidumping duty order on Heavy Forged Hand Tools, With or Without Handles from the PRC covering the period February 1, 2007, through January 31, 2008. The Department intends to issue assessment instructions to the U.S. Customs and Border Protection (“CBP”) 15 days after publication of this rescission notice. The Department will instruct CBP to assess antidumping duties at rates equal to the cash deposit of estimated antidumping duties required at the time of entry, or withdrawal from warehouse, for consumption, in accordance with 19 CFR 351.212(c)(1)(i).

NOTIFICATION REGARDING ADMINISTRATIVE PROTECTIVE ORDERS (“APOs”):

This notice also serves as a reminder to parties subject to APOs of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 23, 2008.
Stephen J. Claeys,
Deputy Assistant Secretary for Import Administration.

[FR Doc. E8-12258 Filed 5-30-08; 8:45 am]

BILLING CODE 3510-DS-S